FEDERAL COMMUNICATIONS COMMISSION

47 CFR Parts 0, 43, 63, and 64

[IB Docket No. 02-324, IB Docket No. 96-261, FCC No 02-285]

International Settlements Policy Reform and International Settlement Rates

AGENCY: Federal Communications Commission.

ACTION: Notice of proposed rulemaking.

SUMMARY: This document initiates a proceeding to re-examine the Commission's International Settlements Policy (ISP). The purpose of this proceeding is to: obtain further information about the competitive status of the U.S.-international marketplace; seek comment widely on a variety of proposals to reform the Commission's current application of the ISP and settlement rate policies; and request information on the issue of foreign mobile termination rates.

DATES: Comments are due December 10, 2002 and reply comments are due January 9, 2003.

ADDRESSES: Federal Communications Commission at 445 12th Street, SW., Room TW-B204, Washington, DC, 20554.

FOR FURTHER INFORMATION: James Ball, Chief, Policy Division, International Bureau, Lisa Choi, Senior Legal Advisor, Policy Division, International Bureau or Gardner Foster, Attorney Advisor, Policy Division, International Bureau at (202) 418-1460. Information regarding this proceeding and others may also be found on the Commission's website at www.fcc.gov. Regarding the information collections requirements contact Judy Boley at (202) 418-0214, 445 12th Street, SW., Rm. 1-C804, Washington, DC 20554 or via Internet at jboley@fcc.gov and Edward C. Springer, OMB Desk Officer, Room 10236 NEOB, 725 17th Street, NW., Washington, DC 20503.

SUPPLEMENTARY INFORMATION: This is a summary of the Commission's Notice of Proposed Rulemaking in IB Docket No. 02-324; IB Docket No. 96-261; FCC 02-285, adopted October 10, 2002 and released on October 11, 2002. Pursuant to §§ 1.415 and 1.419 of the Commission's rules, 47 CFR 1.415, 1.419 interested parties may file comments on or before December 10, 2002, and reply comments on or before January 9, 2003. Comments may be filed using the Commission's Electronic Comment Filing System (ECFS) or by filing paper copies. See Electronic Filing of Documents in Rulemaking Proceedings, 63 FR 24121 (1998). Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appear in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission. Copies of the Notice of Proposed Rulemaking and any subsequently-filed documents in this matter may be obtained from Qualex International, in person at 445 12th Street, SW., Room CY-B402, Washington, DC 20554, via telephone at (202) 863-2893, via facsimile at (202) 863-2898, or via e-mail at qualexint@aol.com. The Notice of Proposed Rulemaking and any associated documents are also available for public inspection and copying during normal reference room hours at the following Commission office: FCC Reference Information Center, 445 12th Street, SW., Room CY-A257, Washington, DC 20554.

Paperwork Reduction Act

The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collections techniques or other forms of information technology. This Notice of Proposed Rulemaking contains proposed information collections. As part of its continuing effort to reduce paperwork burdens, we invite the general public and the Office of Management and Budget (OMB) to take this opportunity to comment on the information collections contained in this NPRM, as required by the Paperwork Reduction Act of 1995, Public Law 104-13. Public and agency comments are due at the same time as other comments on this NPRM; OMB comments are due 60 days from date of publication of this NPRM in the Federal Register.

Summary of Notice of Proposed Rulemaking

The Commission initiates this rulemaking to examine possible reform of our International Settlements Policy (ISP) and International Simple Resale (ISR) and benchmarks policies. The Commission's policies in this area have been and will continue to protect U.S. consumers where competition may be nonexistent or insufficient. The Commission last examined the reform of the ISP in 1999. Since then, there has developed increased participation and competition in the U.S.-international marketplace, decreased settlement and end-user rates, and growing liberalization and privatization in foreign markets. In addition, as a result of U.S. policies and other factors, the average U.S.-international settlement rate has fallen from $0.35 in 1997 to $0.14 in 2001 and, correspondingly, U.S. calling prices have dropped from $0.67 in 1997 to $0.33 in 2001. These developments provide an opportunity for the Commission to review and reform our existing regulatory requirements that may be inhibiting the benefits of lower calling prices and greater service innovations to consumers. We consider in this proceeding adopting more market-based policies. In addition, in this NPRM, we inquire whether foreign mobile termination rates may be adversely affecting U.S. consumers and the market for U.S.-international services.

Initial Regulatory Flexibility Certification

Pursuant to the Regulatory Flexibility Act (RFA), the Commission has prepared an Initial Regulatory Flexibility Analysis (IRFA) on the possible significant economic impact on small entities by the policies and actions considered in the NPRM. The test of the IRFA is set forth. Written public comments are requested on this IRFA. Comments must be identified as responses to the IRFA and must be filed by the deadlines for comments on the NPRM as provided in paragraph 56 of this Notice of Proposed Rulemaking. The Commission will send a copy of the Notice, including the IRFA, to the Chief Counsel for Advocacy of the Small Business Administration.

Ordering Clauses

Pursuant to sections 1, 4(i)-4(j), 201-205, 214, 303(r), and 309 of the Communications Act of 1934, as amended, 47 U.S.C. 151, 154(i)-154(j), 201-205, 214, 303(r), 309, this Notice of Proposed Rulemaking is hereby adopted.

The Commission's Consumer and Governmental Affairs Bureau, Reference Information Center shall send a copy of this Notice of Proposed Rulemaking, including the initial regulatory flexibility certification, to the Chief Counsel for Advocacy of the Small Business Administration, in accordance with Section 603(a) of the Regulatory Flexibility Act, 5 U.S.C. 601, et seq. (1981).

List of Subjects in 47 CFR Parts 0, 43, 63 and 64

Communications common carriers, Reporting and recordkeeping requirements.

Federal Communications Commission.
Marlene H. Dortch,
Secretary.

[FR Doc. 02-27312 Filed 10-24-02; 8:45 am]

BILLING CODE 6712-01-P